DEPARTMENT OF ENERGY

Federal Energy Regulatory Commission

Combined Notice of Filings #3

Take notice that the Commission received the following electric rate filings:

Docket Numbers: ER21-2291-000.

Applicants: Duke Energy Carolinas, LLC.

Description: § 205(d) Rate Filing: DEC—City of Concord NITSA SA-150 to be effective 6/1/2021.

Filed Date: 6/30/21.

Accession Number: 20210630-5153.

Comments Due: 5 p.m. ET 7/21/21.

Docket Numbers: ER21-2292-000.

Applicants: PJM Interconnection, L.L.C.

Description: § 205(d) Rate Filing: Amendment to WMPA SA No. 5875; Queue No AE2-129 to be effective 12/3/2020.

Filed Date: 6/30/21.

Accession Number: 20210630-5154.

Comments Due: 5 p.m. ET 7/21/21.

Docket Numbers: ER21-2293-000.

Applicants: Fish Springs Ranch Solar, LLC.

Description: Baseline eTariff Filing: Fish Springs Ranch Solar, LLC Application for Market-Based Rate Authorization to be effective 8/30/2021.

Filed Date: 6/30/21.

Accession Number: 20210630-5155.

Comments Due: 5 p.m. ET 7/21/21.

Docket Numbers: ER21-2294-000.

Applicants: Arlington Energy Center II, LLC.

Description: Baseline eTariff Filing: Arlington Energy Center II, LLC Application for Market-Based Rate Authorization to be effective 8/30/2021.

Filed Date: 6/30/21.

Accession Number: 20210630-5160.

Comments Due: 5 p.m. ET 7/21/21.

Docket Numbers: ER21-2295-000.

Applicants: Duke Energy Carolinas, LLC.

Description: § 205(d) Rate Filing: DEC-NCMPA1 NITSA SA-212 to be effective 6/1/2021.

Filed Date: 6/30/21.

Accession Number: 20210630-5163.

Comments Due: 5 p.m. ET 7/21/21.

Docket Numbers: ER21-2296-000.

Applicants: Ensign Wind Energy, LLC.

Description: Baseline eTariff Filing: Ensign Wind Energy, LLC Application for Market-Based Rate Authorization to be effective 8/30/2021.

Filed Date: 6/30/21.

Accession Number: 20210630-5169.

Comments Due: 5 p.m. ET 7/21/21.

Docket Numbers: ER21-2297-000.

Applicants: Cleco Power LLC.

Description: § 205(d) Rate Filing: Filing of Amendment to Rate Schedule No. 12 to be effective 9/1/2021.

Filed Date: 6/30/21.

Accession Number: 20210630-5170.

Comments Due: 5 p.m. ET 7/21/21.

Docket Numbers: ER21-2299-000.

Applicants: Upper Michigan Energy Resources Corporation.

Description: Market-Based Triennial Review Filing: Central Region Triennial of UMERC to be effective N/A.

Filed Date: 6/30/21.

Accession Number: 20210630-5173.

Comments Due: 5 p.m. ET 8/30/21.

Docket Numbers: ER21-2300-000.

Applicants: Wisconsin Electric Power Company.

Description: Market-Based Triennial Review Filing: Central Region Triennial of WEPCO to be effective N/A.

Filed Date: 6/30/21.

Accession Number: 20210630-5174.

Comments Due: 5 p.m. ET 8/30/21.

Docket Numbers: ER21-2301-000.

Applicants: Calumet Energy Team, LLC.

Description: § 205(d) Rate Filing: Market-Based Rate Tariff Revisions to be effective 8/30/2021.

Filed Date: 6/30/21.

Accession Number: 20210630-5177.

Comments Due: 5 p.m. ET 7/21/21.

Docket Numbers: ER21-2302-000.

Applicants: Casco Bay Energy Company, LLC.

Description: § 205(d) Rate Filing: Market-Based Rate Tariff Revisions to be effective 8/30/2021.

Filed Date: 6/30/21.

Accession Number: 20210630-5178.

Comments Due: 5 p.m. ET 7/21/21.

Docket Numbers: ER21-2303-000.

Applicants: Dynegy Energy Services (East), LLC.

Description: § 205(d) Rate Filing: Market-Based Rate Tariff Revisions to be effective 8/30/2021.

Filed Date: 6/30/21.

Accession Number: 20210630-5179.

Comments Due: 5 p.m. ET 7/21/21.

Docket Numbers: ER21-2304-000.

Applicants: Arlington Solar, LLC.

Description: Baseline eTariff Filing: Arlington Solar, LLC Application for Market-Based Rate Authority to be effective 8/30/2021.

Filed Date: 6/30/21.

Accession Number: 20210630-5181.

Comments Due: 5 p.m. ET 7/21/21.

Docket Numbers: ER21-2306-000.

Applicants: Dynegy Energy Services, LLC.

Description: § 205(d) Rate Filing: Market-Based Rate Tariff Revisions to be effective 8/30/2021.

Filed Date: 6/30/21.

Accession Number: 20210630-5183.

Comments Due: 5 p.m. ET 7/21/21.

Docket Numbers: ER21-2307-000.

Applicants: Wisconsin Public Service Corporation.

Description: Market-Based Triennial Review Filing: Central Region Triennial of WPSC to be effective N/A.

Filed Date: 6/30/21.

Accession Number: 20210630-5186.

Comments Due: 5 p.m. ET 8/30/21.

Docket Numbers: ER21-2308-000.

Applicants: Dynegy Marketing and Trade, LLC.

Description: § 205(d) Rate Filing: Market-Based Rate Tariff Revisions to be effective 8/30/2021.

Filed Date: 6/30/21.

Accession Number: 20210630-5187.

Comments Due: 5 p.m. ET 7/21/21.

Docket Numbers: ER21-2309-000.

Applicants: Dynegy Power Marketing, LLC.

Description: § 205(d) Rate Filing: Market-Based Rate Tariff Revisions to be effective 8/30/2021.

Filed Date: 6/30/21.

Accession Number: 20210630-5189.

Comments Due: 5 p.m. ET 7/21/21.

Docket Numbers: ER21-2310-000.

Applicants: Wisconsin River Power Company.

Description: Market-Based Triennial Review Filing: Central Region Triennial of Wisconsin River to be effective N/A.

Filed Date: 6/30/21.

Accession Number: 20210630-5191.

Comments Due: 5 p.m. ET 8/30/21.

Docket Numbers: ER21-2311-000.

Applicants: Kincaid Generation, L.L.C.

Description: § 205(d) Rate Filing: Market-Based Rate Tariff Revisions to be effective 8/30/2021.

Filed Date: 6/30/21.

Accession Number: 20210630-5192.

Comments Due: 5 p.m. ET 7/21/21.

Docket Numbers: ER21-2312-000.

Applicants: Lake Road Generating Company, LLC.

Description: § 205(d) Rate Filing: Market-Based Rate Tariff Revisions to be effective 8/30/2021.

Filed Date: 6/30/21.

Accession Number: 20210630-5193.

Comments Due: 5 p.m. ET 7/21/21.

Docket Numbers: ER21-2313-000.

Applicants: Liberty Electric Power, LLC.

Description: § 205(d) Rate Filing: Market-Based Rate Tariff Revisions to be effective 8/30/2021.

Filed Date: 6/30/21.

Accession Number: 20210630-5194.

Comments Due: 5 p.m. ET 7/21/21.

Docket Numbers: ER21-2314-000.

Applicants: Ontelaunee Power Operating Company, LLC.

Description: § 205(d) Rate Filing: Market-Based Rate Tariff Revisions to be effective 8/30/2021.

Filed Date: 6/30/21.

Accession Number: 20210630-5195.

Comments Due: 5 p.m. ET 7/21/21.

Docket Numbers: ER21-2315-000.

Applicants: Pleasants Energy, LLC.

Description: § 205(d) Rate Filing: Market-Based Rate Tariff Revisions to be effective 8/30/2021.

Filed Date: 6/30/21.

Accession Number: 20210630-5200.

Comments Due: 5 p.m. ET 7/21/21.

Docket Numbers: ER21-2316-000.

Applicants: Public Power & Utility of NY, Inc.

Description: § 205(d) Rate Filing: Market-Based Rate Tariff Revisions to be effective 8/30/2021.

Filed Date: 6/30/21.

Accession Number: 20210630-5203.

Comments Due: 5 p.m. ET 7/21/21.

Docket Numbers: ER21-2317-000.

Applicants: Richland-Stryker Generation LLC.

Description: § 205(d) Rate Filing: Market-Based Rate Tariff Revisions to be effective 8/30/2021.

Filed Date: 6/30/21.

Accession Number: 20210630-5207.

Comments Due: 5 p.m. ET 7/21/21.

Docket Numbers: ER21-2318-000.

Applicants: Sithe/Independence Power Partners, L.P.

Description: § 205(d) Rate Filing: Market-Based Rate Tariff Revisions to be effective 8/30/2021.

Filed Date: 6/30/21.

Accession Number: 20210630-5208.

Comments Due: 5 p.m. ET 7/21/21.

Docket Numbers: ER21-2319-000.

Applicants: Tatanka Ridge Wind, LLC.

Description: Market-Based Triennial Review Filing: Central Region Triennial of Tatanka Ridge to be effective 8/30/2021.

Filed Date: 6/30/21.

Accession Number: 20210630-5221.

Comments Due: 5 p.m. ET 8/30/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 30, 2021.
Debbie-Anne A. Reese,
Deputy Secretary.

[FR Doc. 2021-14471 Filed 7-6-21; 8:45 am]

BILLING CODE 6717-01-P